ENVIRONMENTAL PROTECTION AGENCY

[EPA-HQ-OECA-2013-0355; FRL-9907-83-OEI]

Information Collection Request Submitted to OMB for Review and Approval; Comment Request; NESHAP for Clay Ceramics Manufacturing, Glass Manufacturing and Secondary Nonferrous Metals Processing Area Sources (Renewal)

AGENCY: Environmental Protection Agency (EPA).

ACTION: Notice.

SUMMARY: The Environmental Protection Agency has submitted an information collection request (ICR), “NESHAP for Clay Ceramics Manufacturing, Glass Manufacturing and Secondary Nonferrous Metals Processing Area Sources (40 CFR Part 63, Subparts RRRRRR, SSSSSS, and TTTTTT)” (EPA ICR No. 2274.04, OMB Control No. 2060-0606), to the Office of Management and Budget (OMB) for review and approval in accordance with the Paperwork Reduction Act (44 U.S.C. 3501 et seq). This is a proposed extension of the ICR, which is currently approved through April 30, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 17, 2014.

ADDRESSES: Submit your comments, referencing Docket ID Number EPA-HQ-OECA-2013-0355, to: (1) EPA online, using www.regulations.gov (our preferred method), or by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The affected entities are subject to the General Provisions of the NESHAP (40 CFR Part 63, subpart A), and any changes, or additions to the Provisions, specified at 40 CFR Part 63, subparts RRRRRR, SSSSSS, and TTTTTT. Owners or operators of the affected facilities must submit a one-time-only report of any physical or operational changes, initial performance tests, and periodic reports and results. Owners or operators are also required to maintain records of the occurrence and duration of any startup, shutdown, or malfunction in the operation of an affected facility, or any period during which the monitoring system is inoperative.

Form Numbers: None.

Respondents/affected entities: Owners or operators of clay ceramics manufacturing, glass manufacturing, and secondary nonferrous metals processing area sources.

Respondent's obligation to respond: Mandatory (40 CFR Part 63, subparts RRRRRR, SSSSSS, and TTTTTT).

Estimated number of respondents: 82.

Frequency of response: Initially and occasionally.

Total estimated burden: 1,763 hours (per year). “Burden” is defined at 5 CFR 1320.3(b).

Total estimated cost: $182,301 (per year), which includes $9,854 in annualized capital/startup and/or operation & maintenance costs.

Changes in the Estimates: There is no change in the labor hours in this ICR compared to the previous ICR. This is due to two considerations: (1) The regulations have not changed over the past three years and are not anticipated to change over the next three years; and (2) the growth rate for the industry is non-existent, so there is no significant change in the overall burden. However, there is an adjustment increase in the respondent burden cost due to an update in labor rates. There is also an adjustment decrease in the total O&M costs due to a correction. The previous ICR included annualized capital costs of initial performance tests and equipment as O&M costs. This ICR corrects the O&M costs to only include ongoing costs to maintain the monitors.

Richard T. Westlund,
Acting Director, Collection Strategies Division.

[FR Doc. 2014-05886 Filed 3-17-14; 8:45 am]

BILLING CODE 6560-50-P